DEPARTMENT OF ENERGY

Federal Energy Regulatory Commission

Combined of Filings #1

December 20, 2005.

Take notice that the Commission received the following electric rate filings:

Docket Number: ER02-971-000.

Applicant: DTE East China, LLC.

Description: DTE East China, LLC withdraws their petition for blanket authorizations, certain waivers, and order approving market based rate tariff filed on 2/6/02.

Filed Date: 12/09/2005.

Accession Number: 20051214-0028.

Comment Date: 5 p.m. eastern time on Friday, December 30, 2005.

Docket Number: ER05-1165-004.

Applicant: South Carolina Electric & Gas Company.

Description: South Carolina Electric and Gas Co submits two agreements with the City of Orangeburg and Carolina Department of Public Utilities in compliance with Order 614.

Filed Date: 12/09/2005.

Accession Number: 20051213-0326.

Comment Date: 5 p.m. eastern time on Friday, December 30, 2005.

Docket Number: ER05-718-000.

Applicant: California Independent System Operator.

Description: California Independent System Operator Corp submits the thirty-first report on market impacts of Amendments 66.

Filed Date: 12/09/2005.

Accession Number: 20051213-0313.

Comment Date: 5 p.m. eastern time on Friday, December 30, 2005.

Docket Number: ER06-52-001.

Applicant: Southern Company Services, Inc.

Description: Southern Company Services, Inc submits First Revised Service Agreement No. 391 for Network Integration Service with Southern Company Generation and Energy Marketing.

Filed Date: 12/09/2005.

Accession Number: 20051213-0328.

Comment Date: 5 p.m. eastern time on Friday, December 30, 2005.

Docket Number: ER06-182-001.

Applicant: MidAmerican Energy Company.

Description: MidAmerican Energy Co submits an amended Electric Transmission Interconnection Agreement with Corn Belt Power Cooperative dated 10/31/05.

Filed Date: 12/09/2005.

Accession Number: 20051213-0346.

Comment Date: 5 p.m. eastern time on Friday, December 30, 2005.

Docket Number: ER06-216-001.

Applicant: Midwest Independent Transmission System Operator, Inc.

Description: Midwest Independent Transmission System Operator, Inc submits a supplement and errata to its 11/16/05 filing of Large Generator Interconnection Agreement.

Filed Date: 12/09/2005.

Accession Number: 20051213-0325.

Comment Date: 5 p.m. eastern time on Friday, December 30, 2005.

Docket Number: ER06-255-001.

Applicant: Midwest Independent Transmission System Operator, Inc.

Description: Midwest Independent Transmission System Operator, Inc submits a supplement to its 11/29/05 filing of Large Generator Interconnection Agreement.

Filed Date: 12/09/2005.

Accession Number: 20051213-0327.

Comment Date: 5 p.m. eastern time on Friday, December 30, 2005.

Docket Number: ER06-260-001.

Applicant: Midwest Independent Transmission System Operator, Inc.

Description: The Midwest Independent Transmission System Operator, Inc submits a supplement to its 11/30/05 filing of revised & restated Generator Interconnection & Operating Agreement.

Filed Date: 12/09/2005.

Accession Number: 20051213-0334.

Comment Date: 5 p.m. eastern time on Wednesday, December 28, 2005.

Docket Number: ER06-299-000.

Applicant: Southern California Edison Company.

Description: Southern California Edison Co submits First Revised Sheet No. 4 to the Interconnection Facilities Agreement et al. with California Department of Water and Power.

Filed Date: 12/08/2005.

Accession Number: 20051213-0342.

Comment Date: 5 p.m. eastern time on Thursday, December 29, 2005.

Docket Number: ER06-300-000.

Applicant: Dartmouth PPA Holdings LLC.

Description: Dartmouth PPA Holdings LLC requests that FERC cancel its sole FERC-jurisdictional rate schedule.

Filed Date: 12/08/2005.

Accession Number: 20051213-0336.

Comment Date: 5 p.m. eastern time on Thursday, December 29, 2005.

Docket Number: ER06-301-000.

Applicant: Xcel Energy Services Inc.

Description: Xcel Energy Operating Co's et al. submit Service Schedule H (transfer of Non-System sales and purchases to facilitate non-system marketing) to the First Amended Joint Operating Agreement etc.

Filed Date: 12/08/2005.

Accession Number: 20051213-0345.

Comment Date: 5 p.m. eastern time on Thursday, December 29, 2005.

Docket Number: ER06-302-000.

Applicant: Wayne-White Counties Electric Cooperative.

Description: Wayne-White Counties Electric Cooperative notifies FERC that due to an amendment to section 201(f) of the Federal Power Act, Wayne-White ceased to be a public utility under the FPA as of 8/8/05.

Filed Date: 12/08/2005.

Accession Number: 20051213-0335.

Comment Date: 5 p.m. eastern time on Thursday, December 29, 2005.

Docket Number: ER06-303-000.

Applicant: PJM Interconnection, L.L.C.

Description: PJM Interconnection, LLC submits revisions to the PJM FERC Electric Tariff Third Revised Rate Schedule FERC No. 24 and Sixth Revised Volume No. 1.

Filed Date: 12/08/2005.

Accession Number: 20051213-0329.

Comment Date: 5 p.m. eastern time on Thursday, December 29, 2005.

Docket Number: ER06-304-000.

Applicant: PJM Interconnection, L.L.C.

Description: PJM Interconnection, LLC submits revisions to the PJM FERC Electric Tariff, Third Revised Rate Schedule FERC No. 24 & Sixth Revised Volume No. 1 under.

Filed Date: 12/09/2005.

Accession Number: 20051213-0333.

Comment Date: 5 p.m. eastern time on Friday, December 30, 2005.

Docket Number: ER06-305-000; ER04-212-002

Applicant: University Park Energy, LLC

Description: University Park Energy, LLC submits a notice of cancellation of its FERC Electric Tariff, Original Volume No. 2.

Filed Date: 12/09/2005.

Accession Number: 20051214-0019.

Comment Date: 5 p.m. eastern time on Friday, December 30, 2005.

Docket Number: ER06-306-000.

Applicant: Jersey Central Power and Light Company, et al.

Description: Jersey Central Power & Light Co et al submits an amendment to their Energy Procedure Manual for Determining Supplier Peak Load Share.

Filed Date: 12/09/2005.

Accession Number: 20051213-0331.

Comment Date: 5 p.m. eastern time on Friday, December 30, 2005.

Docket Number: ER06-307-000.

Applicant: DTE East China, LLC.

Description: DTE East China, LLC submits a Notice of Cancellation of its FERC Electric Tariff, Original Volume No. 3.

Filed Date: 12/09/2005.

Accession Number: 20051213-0332.

Comment Date: 5 p.m. eastern time on Friday, December 30, 2005.

Docket Number: ER06-308-000.

Applicant: PJM Interconnection, L.L.C.

Description: PJM Interconnection, LLC submits an executed Construction Service Agreement with Laurel Hill Energy, LLC et al.

Filed Date: 12/09/2005.

Accession Number: 20051213-0340.

Comment Date: 5 p.m. eastern time on Friday, December 30, 2005.

Docket Number: ER06-309-000.

Applicant: PJM Interconnection, L.L.C.

Description: PJM Interconnection, LLC submits amendments to the Amended and Restated Operating Agreement, the Reliability Assurance Agreement Among Load Serving Entities in MAAC Control Zone etc.

Filed Date: 12/09/2005.

Accession Number: 20051213-0330.

Comment Date: 5 p.m. eastern time on Friday, December 30, 2005.

Docket Number: ER06-310-000.

Applicant: New York Independent System Operator, Inc.

Description: New York Independent System Operator, Inc. submits proposed revisions to FERC Rate Schedule No. 5 of its Market Administration and Control Area Services Tariff etc.

Filed Date: 12/09/2005.

Accession Number: 20051213-0338.

Comment Date: 5 p.m. eastern time on Friday, December 30, 2005.

Docket Number: ER06-311-000.

Applicant: New York Independent System Operator, Inc.

Description: The New York Independent System Operator, Inc. et al submits standard interconnection procedures and a standard interconnection agreement pursuant to Order 2006 and Order 2006-A, FERC's Final Rule etc.

Filed Date: 12/08/2005.

Accession Number: 20051214-0059.

Comment Date: 5 p.m. eastern time on Thursday, December 29, 2005.

Docket Number: ER06-312-000.

Applicant: Pacific Gas & Electric Company.

Description: Pacific Gas & Electric Co submits revisions to its market-based rate tariff in connection with its updated market power analysis etc.

Filed Date: 12/09/2005.

Accession Number: 20051214-0005.

Comment Date: 5 p.m. eastern time on Friday, December 30, 2005.

Docket Number: ER06-313-000.

Applicant: Midwest Independent Transmission System Operator, Inc.

Description: Midwest Independent Transmission System Operator, Inc submits proposed revisions to their Open Access Transmission and Energy Markets Tariff.

Filed Date: 12/09/2005.

Accession Number: 20051214-0006.

Comment Date: 5 p.m. eastern time on Friday, December 30, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7924 Filed 12-27-05; 8:45 am]

BILLING CODE 6717-01-P